OFFICE OF THE UNITED STATES TRADE REPRESENTATIVE

Fiscal Year 2008 Tariff-Rate Quota Allocations of Raw Cane Sugar, Refined and Specialty Sugar, and Sugar-Containing Products; Correction

AGENCY: USTR.

ACTION: Notice; correction.

SUMMARY: The Office of the United States Trade Representative published a document in the Federal Register of August 24, 2007 concerning Fiscal Year 2008 Tariff-Rate Quota allocations of raw cane sugar, refined and specialty sugar, and sugar-containing products. The document contained incorrect data.

Correction to Previous Notice

In the Federal Register of August 24, 2007, Volume 72, Page 48695, the Office of the United States Trade Representative published a notice entitled “Fiscal Year 2008 Tariff-Rate Quota Allocations of Raw Cane Sugar, Refined and Specialty Sugar, and Sugar-Containing Products.” A correction is being made to the information in the table in the second column, which contains the country-specific allocations for raw sugar. The figure for the allocation for the country of Nicaragua is incorrect. The correct figure is 22,114 Metric Tons Raw Equivalent (MTRV) rather than 22,538 MTRV. All other information remains unchanged and will not be repeated in this correction.

FOR FURTHER INFORMATION CONTACT: Leslie O'Connor, Office of Agricultural Affairs, telephone: 202-395-6127 or facsimile: 202-395-4579.

Susan C. Schwab,
United States Trade Representative.

[FR Doc. E8-18520 Filed 8-11-08; 8:45 am]

BILLING CODE 3190-W8-P